DEPARTMENT OF THE INTERIOR

National Park Service

[NPS-WASO-NAGPRA-NPS0036527; PPWOCRADN0-PCU00RP14.R50000]

Notice of Intent To Repatriate Cultural Items: David A. Fredrickson Archaeological Collections Facility at Sonoma State University, Rohnert Park, CA

AGENCY: National Park Service, Interior.

ACTION: Notice.

SUMMARY: In accordance with the Native American Graves Protection and Repatriation Act (NAGPRA), the David A. Fredrickson Archaeological Collections Facility at Sonoma State University intends to repatriate a certain cultural item that meets the definition of an object of cultural patrimony and that has a cultural affiliation with the Indian Tribes or Native Hawaiian organizations in this notice. The cultural item was removed from Sutter County, CA.

DATES: Repatriation of the cultural item in this notice may occur on or after October 12, 2023.

ADDRESSES: Doshia Dodd, David A. Fredrickson Archaeological Collections Facility at Sonoma State University, 1801 East Cotati Avenue, Building 29, Rohnert Park, CA 94928, telephone (530) 514-8472, email caradine@sonoma.edu.

SUPPLEMENTARY INFORMATION: This notice is published as part of the National Park Service's administrative responsibilities under NAGPRA. The determinations in this notice are the sole responsibility of the David A. Fredrickson Archaeological Collections Facility at Sonoma State University. The National Park Service is not responsible for the determinations in this notice. Additional information on the determinations in this notice, including the results of consultation, can be found in the summary or related records held by the David A. Fredrickson Archaeological Collections Facility at Sonoma State University.

Description

One cultural item (Accession Number 91-29) was removed from archeological site CA-SUT-17 in Sutter County, CA, in 1991. The object of cultural patrimony is one lot consisting of flaked stone tools and debitage; faunal bone tools; groundstone objects; shell beads; and unmodified faunal bones and shells.

Cultural Affiliation

The cultural item in this notice is connected to one or more identifiable earlier groups, tribes, peoples, or cultures. There is a relationship of shared group identity between the identifiable earlier groups, tribes, peoples, or cultures and one or more Indian Tribes or Native Hawaiian organizations. The following types of information were used to reasonably trace the relationship: anthropological, archeological, geographical, historical, and expert opinion in the form of Tribal Traditional Knowledge.

Determinations

Pursuant to NAGPRA and its implementing regulations, and after consultation with the appropriate Indian Tribes and Native Hawaiian organizations, the David A. Fredrickson Archaeological Collections Facility at Sonoma State University has determined that:

• The one cultural item described above has ongoing historical, traditional, or cultural importance central to the Native American group or culture itself, rather than property owned by an individual.

• There is a relationship of shared group identity that can be reasonably traced between the cultural item and the United Auburn Indian Community of the Auburn Rancheria of California.

Requests for Repatriation

Additional, written requests for repatriation of the cultural items in this notice must be sent to the Responsible Official identified in ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after October 12, 2023. If competing requests for repatriation are received, the David A. Fredrickson Archaeological Collections Facility at Sonoma State University must determine the most appropriate requestor prior to repatriation. Requests for joint repatriation of the cultural items are considered a single request and not competing requests. The David A. Fredrickson Archaeological Collections Facility at Sonoma State University is responsible for sending a copy of this notice to the Indian Tribe identified in this notice.

Authority: Native American Graves Protection and Repatriation Act, 25 U.S.C. 3003, and the implementing regulations, 43 CFR 10.8, § 10.10, and § 10.14.

Dated: August 30, 2023.
Melanie O'Brien,
Manager, National NAGPRA Program.

[FR Doc. 2023-19601 Filed 9-11-23; 8:45 am]

BILLING CODE 4312-52-P